DEPARTMENT OF HEALTH AND HUMAN SERVICES

Centers for Disease Control and Prevention

Disease, Disability, and Injury Prevention and Control Special Emphasis Panel (SEP)—Funding Opportunity Announcement (FOA), PAR 20-280, Cooperative Research Agreements to the World Trade Center Health Program (U01); and RFA OH-21-004, Exploratory/Developmental Grants Related to the World Trade Center Health Program (R21); Amended Notice of Meeting

Notice is hereby given of a change in the meeting of the Disease, Disability, and Injury Prevention and Control Special Emphasis Panel (SEP)—Funding Opportunity Announcement (FOA), PAR 20-280, Cooperative Research Agreements to the World Trade Center Health Program (U01); and RFA OH-21-004, Exploratory/Developmental Grants Related to the World Trade Center Health Program (R21), March 16-17, 2021, from 9:00 a.m.-6:00 p.m., EDT; and March 18, 2021, from 9:00 a.m.-12:00 p.m., EDT, in the original FRN.

The virtual meeting was published in the Federal Register on Monday, January 11, 2021, Volume 86, Number 6, pages 1975-1976.

The virtual meeting is being amended to change the dates and times and should read as follows:

Dates and Times: March 16-17, 2021, from 1:00 p.m.-5:00 p.m., EDT.

The meeting is closed to the public.

FOR FURTHER INFORMATION CONTACT: Marilyn Ridenour B.S.N., M.B.A., M.P.H., C.P.H., C.I.C., CAPT, USPHS, Scientific Review Officer, CDC, National Institute for Occupational Safety and Health, 1095 Willowdale Road, Mailstop 1811, Morgantown, West Virginia 26505, Telephone (304) 285-5879.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-03230 Filed 2-17-21; 8:45 am]

BILLING CODE 4163-18-P